NATIONAL SCIENCE FOUNDATION

Advisory Committee for Polar Programs; Notice of Meeting

In accordance with Federal Advisory Committee Act (Pub. L. 92-463, as amended), the National Science Foundation announces the following meeting:

Name: Advisory Committee for Polar Programs (1130).

Date/Time: Wednesday, May 1, 2013, 12:30 p.m.-5:00 p.m.

Place: National Science Foundation, 4201 Wilson Boulevard, Stafford II, Room 555, Arlington, VA—THE ADVISORY COMMITTEE MEMBERS WILL ATTEND VIRTUALLY.

Type Of Meeting: Open.

Contact Person: Sue LaFratta, Office of Polar Programs (OPP). National Science Foundation, 4201 Wilson Boulevard, Arlington, VA 22230. (703) 292-8030.

Minutes: May be obtained from the contact person listed above.

Purpose of Meeting: To advise NSF on the impact of its policies, programs, and activities on the polar research community, to provide advice to the Director of OPP on issues related to long-range planning.

Agenda: Discussion of Committee of Visitors' reports on Antarctic and Arctic programs.

Dated: March 26, 2013.
Susanne Bolton,
Committee Management Officer.

[FR Doc. 2013-07331 Filed 3-28-13; 8:45 am]

BILLING CODE 7555-01-P